DEPARTMENT OF LABOR

Occupational Safety and Health Administration

[Docket No. OSHA-2010-0011]

Keystone Steel and Wire Company; Grant of a Permanent Variance

AGENCY: Occupational Safety and Health Administration (OSHA), Department of Labor.

ACTION: Notice of a grant of a permanent variance.

SUMMARY: This notice announces the grant of a permanent variance to Keystone Steel and Wire Company. The permanent variance addresses the provisions that regulate occupational exposure to lead and arsenic, specifically paragraph (h)(2)(i) of 29 CFR 1910.1025 and paragraph (k)(2) of 29 CFR 1910.1018. These provisions prohibit the use of compressed air to clean floors and other surfaces where lead and arsenic particulates accumulate. As an alternative to complying with these provisions, Keystone Steel and Wire Company may instead comply with the conditions listed in this grant; these alternative conditions regulate the use of compressed air in combination with a vacuum-containment system to remove particulates containing lead and arsenic from inside crane-motor housings during periodic maintenance operations. Accordingly, OSHA finds that these alternative conditions protect workers at least as well as the requirements specified by 29 CFR 1910.1025(h)(2)(i) and 29 CFR 1910.1018(k)(2). This permanent variance applies only in Federal OSHA enforcement jurisdictions.

DATES: The effective date of the permanent variance is October 13, 2010.

FOR FURTHER INFORMATION CONTACT: General information and press inquiries. For general information and press inquiries about this notice, contact MaryAnn Garrahan, Acting Director, OSHA Office of Communications, Room N-3647, U.S. Department of Labor, 200 Constitution Avenue, NW., Washington, DC 20210; telephone: (202) 693-1999.

Technical information. For technical information about this notice, contact Stefan Weisz, Office of Technical Programs and Coordination Activities, Room N-3655, OSHA, U.S. Department of Labor, 200 Constitution Avenue, NW., Washington, DC 20210; telephone: (202) 693-2110; fax: (202) 693-1644.

Copies of this Federal Register notice. Electronic copies of this notice are available at http://www.regulations.gov. Electronic copies of this notice, as well as news releases and other relevant information, are available on OSHA's Web site at http://www.osha.gov.

SUPPLEMENTARY INFORMATION:

I. Background

Keystone Steel and Wire Company (hereafter, “KSW”), 7000 S. Adams Street, Peoria, IL 61641,¹ submitted an application for a permanent variance under Section 6(d) of the Occupational Safety and Health Act of 1970 (“OSH Act”; 29 U.S.C. 655) and 29 CFR 1905.11 (“Variances and other relief under section 6(d)”) for a permanent variance, and for an interim order pending a decision on the application for a variance, from the safety standards prescribed in 29 CFR 1910.1025(h)(2)(i) and 29 CFR 1910.1018(k)(2). The Agency published KSW's variance application and a grant for an interim order in the Federal Register on July 1, 2010 (75 FR 38130).

¹ This address also is the place of employment described in the application.

KSW operates a melt shop where it processes scrap steel into a molten state. The equipment used to accomplish the melting process consists of: an electric-arc furnace, which uses an electric arc generated from electrodes to melt the scrap steel; and a ladle metallurgy furnace, which uses electrodes to maintain the molten steel at a constant temperature to produce the proper consistency of steel. The melting process requires the use of two overhead cranes to haul the scrap to the furnaces, and to transport the molten steel for further processing. Ten large, direct-current electric motors power each crane.

During the melting process, fugitive emissions containing trace amounts of lead and arsenic accumulate inside the motor housings of the overhead cranes.² To prevent electric arcing, KSW must remove the accumulated particulates from inside the crane-motor housings. To accomplish this task, KSW uses compressed air supplemented by a vacuum-containment system.

² The facility has local exhaust ventilation on the furnaces, and a canopy hood for the entire melt shop that captures most of the fugitive emissions.

As an alternative to complying with the housekeeping requirements specified by 29 CFR 1910.1025(h)(2)(i) and 29 CFR 1910.1018(k)(2), KSW proposed to adopt an alternative means of compliance that consists, in part, of a compressed-air vacuum-containment (CAVC) system mounted on a truck. A worker begins the crane-motor cleaning operation by inserting the nozzle of the compressed-air gun into an opening in the housing, then triggers the compressed air. The vacuum-containment system, which the worker activates prior to beginning the motor-cleaning operation, generates exhaust airflow inside the crane-motor housing. The vacuum, delivered through a hose, has an exhaust volume of 5,000 cubic feet per minute, and collects the lead and arsenic particulates that the worker removes with compressed air from the interior components of the crane motor. The system then deposits the particulates in a hopper, also mounted on the truck.

KSW designed a flanged end that fits over an opening in a housing that covers each crane motor. The vacuum hose is connected to, and is supported by, this flange. Thus, the combination of the housing, flanged end, compressed air, and the vacuum-containment system captures most of the fugitive particulates released during the motor-cleaning operation, thereby reducing worker exposure to airborne lead and arsenic.

In support of its variance application, KSW submitted the following data and information demonstrating the effectiveness of the alternative means of compliance:

1. KSW administered several rounds of personal-exposure monitoring to workers who used compressed air while cleaning the crane motors. The results for the last two rounds of sampling for both lead and arsenic were below the action levels for these substances.

2. KSW performed several rounds of medical surveillance, including biological monitoring for blood lead and zinc protoporphyrin concentrations, on workers who cleaned crane motors. Blood-lead monitoring results were well below the allowable concentration of 40 μg lead/100 g whole blood.

3. KSW developed and implemented a Respiratory Protection Program designed to meet the requirements specified by 29 CFR 1910.134, 29 CFR 1910.1025(f), and 29 CFR 1910.1018(h).

4. KSW developed and implemented an Arsenic, Lead, & Cadmium Control Program to meet the requirements specified by 29 CFR 1910.1018, 29 CFR 1910.1025, and 29 CFR 1910.1027, respectively.

5. KSW developed and implemented a Safe Job Procedure incorporating key elements of a job-hazard analysis. This document provides affected workers with a description of the steps required to complete the cleaning task, and the hazards associated with, and control methods used for, each of these steps (e.g., using vacuum exhaust in conjunction with compressed air, the type of protective clothing and other PPE to wear).

6. KSW developed and implemented a program to instruct affected workers about the hazards associated with performing motor-cleaning operations, and the hazard controls used while performing these operations.

In addition to the CACV, KSW proposed to include the following conditions in its alternative means of compliance:

Engineering Controls and Related Conditions

1. Implement engineering controls (i.e., a compressed-air vacuum-containment (CAVC) system) that maintain negative pressure inside the housing enclosing each crane motor when using compressed air to clean crane motors; this condition ensures that the exhaust airflow leaving the enclosure exceeds the inflow of compressed air by maintaining the volume of compressed air below 5,000 cubic feet per minute. This condition effectively prevents escape of lead and arsenic particulates from the crane-motor housing.

2. To prevent the spread and recirculation of captured lead and arsenic particulates from the vacuum truck, ensure that: (a) The exhaust air in the CVAC system passes through a high-efficiency particulate air (HEPA) filtration system prior to discharge; and (b) this filtered exhaust does not reenter the work areas inside the plant.

3. Ensure the continued effectiveness of the alternative means of compliance by: (a) Performing a pre-use or yearly inspection (whichever occurs more frequently) of all equipment and components used in the cleaning operations; ³ (b) documenting such inspections using a checklist; (c) replacing or repairing all defective parts and components; and (d) maintaining records of inspections and corrective actions. This condition ensures that the equipment performs continuously at optimum effectiveness, thereby minimizing release of lead and arsenic particulates into the ambient atmosphere during the crane motor-cleaning operation.

³ Examples of the equipment or components listed on the checklist include: air compressors; pressure regulators; gages; compressed-air hoses; nozzle-pressure reducer; crane-motor enclosures; flanges; vacuum-system operations, including the HEPA filtration system and replacement of used filters; vacuum hoses; and electric outlets and extension cords used during the cleaning process.

4. Before implementing revisions to the motor-cleaning process, modify the Safe Job Procedure accordingly, and inform affected workers of the modifications. This condition promptly informs and updates workers performing the crane motor-cleaning operation of revisions to work procedures and safety practices, thereby reducing the possibility that they could compromise the effectiveness of the CACV system and other protective measures.

Exposure Monitoring

5. Perform personal-exposure monitoring (i.e., Breathing-zone sampling) of the workers for lead and arsenic particulates during the entire period they use compressed air to clean crane motors. For multiple crane motor-cleaning operations during the same maintenance cycle, perform such monitoring on at least two operations that are representative of exposures for all affected workers performing cleaning operations during the cycle. This condition allows KSW to monitor worker exposure to lead and arsenic particulates outside the crane-motor housing during the cleaning operation. KSW would use these monitoring results to determine the effectiveness of the CACV system, and to take corrective action if exposures are at or above the action levels for lead or arsenic.

6. Conduct breathing-zone sampling of affected workers for the entire work day (full shift) on days when workers use compressed air to clean crane motors. The full-shift sampling must include a separate sampling for the crane motor-cleaning operation, and a separate sampling for the portion of the shift that does not involve motor cleaning. This condition would assist KSW in identifying the source of elevated exposures (i.e., at or above the action level) that occur during the shift so that it can correct or implement appropriate exposure-control measures to reduce worker exposures below the action levels for lead and arsenic.

7. Ensure that results for the two most recent rounds of full-shift sampling remain below the action levels for arsenic and lead. This condition ensures that KSW can maintain worker exposure levels below the action levels for lead and arsenic, thereby providing them with a safe and healthful workplace.

8. Submit the breathing-zone samples for lead and arsenic particulates to an analytical laboratory that meets and complies with the certification criteria of the American Industrial Hygiene Association's Industrial Hygiene Proficiency Analytical Testing Program. This condition provides assurance that the laboratory is performing the testing of breathing-zone samples in accordance with recognized analytical standards to maintain the accuracy, reliability, and reproducibility of the sampling results. Accurate, reliable, and reproducible sampling results ensure that worker exposure determinations are valid.

Biological Monitoring

9. Within 30 calendar days after workers perform a motor-cleaning operation, conduct biological monitoring for blood-lead and zinc-protoporphyrin concentrations on every worker involved in that motor-cleaning operation. Blood-lead sample analysis must be performed by a laboratory licensed by the U.S. Centers for Disease Control and Prevention (CDC), or a laboratory that obtained a satisfactory grade in blood-lead proficiency testing from CDC within the prior 12 months and has an accuracy (to a confidence level of 95 percent) within ±15 percent or 6 μg/100 ml, whichever is greater. This condition provides information (in addition to exposure monitoring) regarding worker exposure to lead particulates while involved in the crane motor-cleaning operation, and demonstrates the effectiveness of the alternative means of compliance. This condition also provides assurance that the laboratory is performing the analysis of blood-lead samples in accordance with recognized analytical standards to maintain the accuracy, reliability, and reproducibility of the sampling results.

10. Ensure that blood-lead results remain at or below 40 μg lead/100 g whole blood. This condition supplements other conditions in providing information on the effectiveness of the alternative means of compliance, in addition to signaling the need to remove affected workers from the crane motor-cleaning operations in accordance with 29 CFR 1910.1025(k) should the blood-lead results exceed 40 μg lead/100 g whole blood.

11. Whenever KSW assigns a new worker to perform the crane motor-cleaning operation, conduct biological monitoring of the worker prior to the worker beginning the cleaning operation. This condition establishes a baseline blood-lead level against which to compare subsequent biological samples and, thereby, assess the effectiveness of the alternative means of compliance.

12. KSW will not assign any worker to the crane motor-cleaning operation who declines to undergo the biological-monitoring procedures. This condition prevents worker exposure to the motor-cleaning operation without the benefit of biological monitoring to assess over-exposure to lead particulates.

Notifications

13. Provide written notification to affected workers of the results of their individual personal-exposure and biological-monitoring results in accordance with the requirements of the arsenic and lead standards (29 CFR 1910.1018(e)(5), 29 CFR 1910.1018(n)(6)(iii), 29 CFR 1910.1025(d)(8) and 29 CFR 1910.1025(j)(3)(v)(A)(4)) within 15 working days from receipt of the results. The information provided to the affected workers will enable them to assess the effectiveness of the alternative means of compliance, i.e., the adequacy of existing controls or the need for additional controls.

14. Whenever (a) personal-exposure monitoring results are at or above the action levels for lead (30 μg/m³) or arsenic (5 μg/m³), or (b) blood-lead monitoring results are above 20 μg lead/100 g whole blood, provide these results to OSHA's Peoria, IL, Area Office, OSHA's Chicago, IL, Regional Office, and OSHA's Office of Technical Programs and Coordination Activities within 15 working days of receiving the results, along with a written plan describing how KSW will reduce exposure levels or blood-lead levels. This condition will ensure that OSHA remains informed regarding the effectiveness of the alternative means of compliance, and will provide OSHA with an opportunity to assess KSW's plan to reduce exposures to lead and arsenic below the action levels for these substances. Under this condition, OSHA also can evaluate KSW's progress in restoring the effectiveness of the alternative means of compliance, and, if necessary, revise the conditions or revoke the variance should KSW not attain exposure levels below the action levels in a timely manner.

15. At least 15 calendar days prior to commencing any operation that involves using compressed air to clean crane motors, inform OSHA's Peoria, IL, Area Office and OSHA's Chicago, IL, Regional Office of the date and time the operation will commence. This condition provides OSHA with an opportunity to conduct on-site assessments of KSW's compliance with the conditions of the variance, and to ascertain directly the effectiveness of the alternative means of compliance.

16. Notify in writing OSHA's Office of Technical Programs and Coordination Activities as soon as KSW knows that it will: (a) Cease to do business; or (b) transfer the activities covered by the variance to a successor company. This condition allows OSHA to determine whether to revoke the variance or transfer the variance to the successor company.

Training

17. Implement the worker-training programs described in 29 CFR 1910.1018(o) and 29 CFR 1910.1025(l), including: (a) Initial training of new workers prior to their beginning a crane motor-cleaning operation; (b) yearly refresher training of all other workers involved in crane motor-cleaning operations; (c) documentation of this training; and (d) maintenance of the training records.⁴ This condition ensures that workers are knowledgeable regarding the hazards and corresponding hazard-control measures KSW implements to prevent worker exposure to harmful levels of airborne lead and arsenic particulates while engaged in the crane motor-cleaning. Training also provides workers with information necessary for them to assess KSW's compliance with the conditions of the variance and the effectiveness of the alternative means of compliance.

⁴ As described by KSW's Arsenic, Lead, & Cadmium Control Program (see Exhibit 19).

Miscellaneous Program Conditions

18. Implement the: (a) Respiratory Protection Program that meets ⁵ the requirements specified by 29 CFR 1910.134, 29 CFR 1910.1025(f), and 29 CFR 1910.1018(h); (b) provisions of KSW's Arsenic, Lead, & Cadmium Control Program; and (c) provisions of the Safe Job Procedure. This condition ensures that KSW will implement the programs and associated safe-work practices that prevent worker exposure to harmful levels of airborne lead and arsenic particulates while engaged in crane motor-cleaning operations, which are necessary for the continued effectiveness of the alternative means of compliance.

⁵ The term “meets” means that the Respiratory Protection Program must meet the requirements of 29 CFR 1910.134 and 29 CFR 1910.1025(f), not that OSHA determined that the program meets these requirements.

Monitoring Work Practices

19. Ensure that supervisors observe and enforce applicable safe-work practices ⁶ while workers are cleaning crane motors, document these supervisor observations and enforcement activities, and maintain these records. This condition ensures that affected workers implement the required safe-work practices during crane-motors cleaning operations. This condition will permit OSHA, KSW managers, workers, and worker representatives to assess compliance with the conditions of the variance and, therefore, determine the effectiveness of the alternative means of compliance.

⁶ Examples of safe-work practices include use of personal-protective equipment (including respirators, gloves, protective clothing) as defined by (a) KSW's Respiratory Protection Program; (b) provisions of KSW's Arsenic, Lead, & Cadmium Control Program; and (c) provisions of KSW's Safe Job Procedure.

Record Retention and Availability

20. Retain any records generated under these conditions for a minimum period of five years, unless an applicable OSHA standard specifies a longer period,⁷ and make these records available to OSHA, affected workers, and worker representatives on request. This condition allows OSHA, KSW managers, workers, and worker representatives to assess the effectiveness of the alternative means of compliance over an extended period, and provides baseline measurements against which to evaluate the effectiveness of subsequent revisions made to the alternative means of compliance.

⁷ For example, § 1910.1025(n)(1)(iii) and (n)(2)(iv) require employers to retain lead exposure-monitoring records and medical records for at least 40 years or for the duration of employment plus 20 years, whichever is longer.

II. Variance From 29 CFR 1910.1025(h)(2)(i) and 29 CFR 1910.1018(k)(2)

KSW seeks a permanent variance from the provisions of the OSHA standards that regulate occupational exposure to lead and arsenic, specifically paragraph (h)(2)(i) of 29 CFR 1910.1025 and paragraph (k)(2) of 29 CFR 1910.1018. These paragraphs prohibit use of compressed air to clean floors and other surfaces where lead and arsenic particulates accumulate. These paragraphs specify the following requirements:

29 CFR 1910.1025(h)(2)(i): Floors and other surfaces where lead accumulates may not be cleaned by the use of compressed air.

29 CFR 1910.1018(k)(2): Cleaning floors. Floors and other accessible surfaces contaminated with inorganic arsenic may not be cleaned by the use of compressed air, and shoveling and brushing may be used only where vacuuming or other relevant methods have been tried and found not to be effective.

As an alternative to complying with housekeeping requirements as specified by 29 CFR 1910.1025(h)(2)(i) and 29 CFR 1910.1018(k)(2), KSW proposed to use compressed air supplemented by a vacuum-containment system discussed in section I (“Background”) of this notice to perform cleaning of crane-motor housings. KSW asserted that use of the proposed compressed air supplemented by a vacuum-containment system protected its workers as least as effectively as the housekeeping requirements of 29 CFR 1910.1025(h)(2)(i) and 29 CFR 1910.1018(k)(2).

III. Comments on the Variance Application

The Federal Register notice (75 FR 38130) invited interested parties, including KSW and affected employees, to submit written data, views, and arguments regarding the grant or denial of the variance application submitted by KSW. In addition, the Federal Register notice notified KSW and affected employees of their right to request a hearing on the application for a variance. OSHA received no comments on the variance application, nor did it receive any requests for a hearing.

IV. Decision

Keystone Steel and Wire Company seeks a permanent variance from the provisions of the OSHA standards that regulate occupational exposure to lead and arsenic, specifically paragraph (h)(2)(i) of 29 CFR 1910.1025 and paragraph (k)(2) of 29 CFR 1910.1018. These paragraphs prohibit use of compressed air to clean floors and other surfaces where lead and arsenic particulates accumulate. Paragraph (h)(2)(i) of 29 CFR 1910.1025 states that employers cannot use compressed air to clean floors and other surfaces where lead accumulates, while paragraph (k)(2) of 29 CFR 1910.1018 prohibits employers from using compressed air to clean floors and other accessible surfaces contaminated with inorganic arsenic, and permits the use of shoveling and brushing for this purpose only after employers try vacuuming or other relevant methods and find these methods to be ineffective.

As an alternative to complying with the housekeeping requirements specified by 29 CFR 1910.1025(h)(2)(i) and 29 CFR 1910.1018(k)(2), KSW proposed to adopt an alternative means of compliance that consists, in part, of a compressed-air vacuum-containment system mounted on a truck. A worker begins the crane-motor cleaning operation by inserting the nozzle of the compressed-air gun into an opening in the housing, then triggers the compressed air. The vacuum-containment system, which the worker activates prior to beginning the motor-cleaning operation, generates exhaust airflow inside the crane-motor housing. The vacuum, delivered through a hose, has an exhaust volume of 5,000 cubic feet per minute, and collects the lead and arsenic particulates that the worker removes with compressed air from the interior components of the crane motor. The system then deposits the particulates in a hopper, also mounted on the truck.

KSW designed a flanged end that fits over an opening in a housing that covers each crane motor. The vacuum hose is connected to, and is supported by, this flange. Thus, the combination of the housing, flanged end, compressed air, and the vacuum-containment system captures most of the fugitive particulates released during the motor-cleaning operation, thereby reducing worker exposure to airborne lead and arsenic.

Under Section 6(d) of the Occupational Safety and Health Act of 1970 (29 U.S.C. 655), and based on the record discussed above, the Agency finds that when KSW complies with the conditions of the following order, the working conditions of the KSW's workers will be at least as safe and healthful as if KSW complied with the working conditions specified by paragraphs (h)(2)(i) of 29 CFR 1910.1025 and (k)(2) of 29 CFR 1910.1018. This decision is applicable in all States under Federal OSHA enforcement jurisdiction.

V. Order

OSHA issues this order authorizing the Keystone Steel and Wire Company (hereafter, “the employer”) to comply with the following conditions instead of complying with paragraphs (h)(2)(i) of 29 CFR 1910.1025 and (k)(2) of 29 CFR 1910.1018. This order applies only in Federal OSHA enforcement jurisdictions, and does not permit the employer to vary compliance with any other provisions of 29 CFR 1910.1025 and 29 CFR 1910.1018.

1. Scope of the Permanent Variance

This permanent variance applies only at the employer's melt shop when using compressed air to clean crane motors during maintenance operations.

2. Engineering and Related Conditions

(a) The employer must:

(1) Use engineering controls (i.e., a compressed-air vacuum-containment (CAVC) system) that maintain negative pressure inside the housing enclosing each crane motor when using compressed air to clean crane motors, and ensure that the vacuum-exhaust airflow leaving the enclosure exceeds the inflow of compressed air by maintaining the volume of compressed air below 5,000 cubic feet per minute.

(b) Ensure that the:

(1) Exhaust air in the CAVC system passes through a high-efficiency particulate air (HEPA) filtration system prior to discharge; and

(2) Filtered exhaust does not reenter the work areas inside the plant.

(c) Ensure the continued effectiveness of the alternative means of compliance by:

(1) Performing a pre-use or yearly inspection (whichever occurs more frequently) of all equipment and components used in the cleaning operations; ⁸

⁸ Examples of the equipment or components listed on the checklist include: air compressors; pressure regulators; gages; compressed-air hoses; nozzle-pressure reducer; crane-motor enclosures; flanges; vacuum-system operations, including the HEPA filtration system and replacement of used filters; vacuum hoses; and electric outlets and extension cords used during the cleaning process.

(2) Documenting such inspections using a checklist;

(3) Replacing or repairing all defective parts and components; and

(4) Maintaining records of inspections and corrective actions.

(d) Before implementing revisions to the motor-cleaning process, modify the Safe Job Procedure accordingly, and inform affected workers of the modifications.

3. Exposure Monitoring

The employer must:

(a) Perform personal-exposure monitoring (i.e., breathing-zone sampling) of the workers for lead and arsenic particulates during the entire period they use compressed air to clean crane motors. For multiple crane motor-cleaning operations during the same maintenance cycle, perform such monitoring on at least two operations that are representative of exposures for all affected workers performing cleaning operations during the cycle.

(b) Conduct breathing-zone sampling of affected workers for the entire work day (full shift) on days when workers use compressed air to clean crane motors. The full-shift sampling must include separate sampling during the crane motor-cleaning operation, and a separate sampling for the portion of the shift that does not involve motor cleaning.

(c) Ensure that results for the two most recent rounds of full-shift sampling remain below the action level for arsenic and lead.

(d) Submit the breathing-zone samples for lead and arsenic particulates to an analytical laboratory that complies with the certification criteria of the American Industrial Hygiene Association's Industrial Hygiene Proficiency Analytical Testing Program.

4. Biological Monitoring

The employer must:

(a) Within 30 calendar days after workers perform a motor-cleaning operation, conduct biological monitoring for blood-lead and zinc-protoporphyrin concentrations on every worker involved in that motor-cleaning operation. Blood-lead sample analysis must be performed by a laboratory licensed by the U.S. Centers for Disease Control and Prevention (CDC), or a laboratory that obtained a satisfactory grade in blood-lead proficiency testing from CDC within the prior 12 months and has an accuracy (to a confidence level of 95 percent) within ±15 percent or 6 μg/100 ml, whichever is greater.

(b) Ensure that blood-lead results remain at or below 40 μg lead/100 g whole blood.

(c) Whenever the employer assigns a new worker to perform the crane motor-cleaning operation, conduct biological monitoring of the worker prior to the worker beginning the cleaning operation.

(d) Not assign any worker to the crane motor-cleaning operation who declines to undergo the biological-monitoring procedures.

5. Notifications

(a) The employer must:

(1) Provide written notification to affected workers of the results of their individual personal-exposure and biological-monitoring results in accordance with the requirements of the arsenic and lead standards (29 CFR 1910.1018(e)(5), 29 CFR 1910.1018(n)(6)(iii), 29 CFR 1910.1025(d)(8), and 29 CFR 1910.1025(j)(3)(v)(A)(4)) within 15 working days from receipt of the results.

(2) Whenever personal-exposure monitoring results are at or above the action levels for lead (30 μg/m³) or arsenic (5 μg/m³), or blood-lead monitoring results are above 20 μg lead/100 g whole blood, provide these results to OSHA's Peoria, IL, Area Office, OSHA's Chicago, IL, Regional Office, and OSHA's Office of Technical Programs and Coordination Activities within 15 working days of receiving the results, along with a written plan describing how the employer will reduce exposure levels or blood-lead levels.

(3) At least 15 calendar days prior to commencing any operation that involves using compressed air to clean crane motors, inform OSHA's Peoria, IL, Area Office and OSHA's Chicago, IL, Regional Office of the date and time the operation will commence.

(b) Notify in writing OSHA's Office of Technical Programs and Coordination Activities as soon as the employer knows that it will:

(1) Cease to do business; or

(2) Transfer the activities covered by this grant to a successor company.

6. Training

The employer must implement the worker-training programs described in 29 CFR 1910.1018(o) and 29 CFR 1910.1025(l), including:

(a) Initial training of new workers prior to their beginning a crane motor-cleaning operation;

(b) Yearly refresher training of all other workers involved in crane motor-cleaning operations;

(c) Documentation of this training; and

(d) Maintenance of the training records.⁹

⁹ As described by KSW's Arsenic, Lead, & Cadmium Control Program.

7. Miscellaneous Program Conditions

The employer must implement the:

(a) Respiratory Protection Program that meets the requirements specified by 29 CFR 1910.134, and 29 CFR 1910.1025(f), and 29 CFR 1910.1018(h);

(b) Provisions of the employer's Arsenic, Lead, & Cadmium Control Program; and

(c) Provisions of the Safe Job Procedure.

8. Monitoring Work Practices

The employer must ensure that supervisors:

(a) Observe and enforce applicable safe-work practices ¹⁰ while workers are cleaning crane motors;

¹⁰ Examples of safe-work practices include use of personal-protective equipment (including respirators, gloves, protective clothing) as defined by (a) KSW's Respiratory Protection Program; (b) provisions of KSW's Arsenic, Lead, & Cadmium Control Program; and (c) provisions of KSW's Safe Job Procedure.

(b) Document these supervisor observations and enforcement activities; and

(c) Maintain these records.

9. Record Retention and Availability

The employer must:

(a) Retain any records generated under the conditions specified in this grant for a minimum period of five years, unless an applicable OSHA standard specifies a longer period; ¹¹ and

¹¹ For example, § 1910.1025(n)(1)(iii) and (n)(2)(iv) require employers to retain lead exposure-monitoring records and medical records for at least 40 years or for the duration of employment plus 20 years, whichever is longer.

(b) Make these records available to OSHA, affected workers, and worker representatives on request.

VI. Authority and Signature

David Michaels, PhD, MPH, Assistant Secretary of Labor for Occupational Safety and Health, U.S. Department of Labor, 200 Constitution Ave., NW., Washington, DC, directed the preparation of this notice. OSHA is issuing this notice under the authority specified by Section 6(d) of the Occupational Safety and Health Act of 1970 (29 U.S.C. 655), Secretary of Labor's Order No. 4-2010 (75 FR 55355), and 29 CFR part 1905.

Signed in Washington, DC, on October 7, 2010.
David Michaels,
Assistant Secretary of Labor for Occupational Safety and Health.

[FR Doc. 2010-25739 Filed 10-12-10; 8:45 am]

BILLING CODE 4510-26-P